DEPARTMENT OF THE INTERIOR

Fish and Wildlife Service

Revised Notice of Intent to Prepare an Environmental Impact Statement for Issuance of Permits, to Incidentally Take Threatened and Endangered Species, to the City of Sacramento, Sutter County, Reclamation District No. 1000, and Natomas Central Mutual Water Company in Association With a Revised Natomas Basin Habitat Conservation Plan, Sacramento and Sutter Counties, CA

AGENCY: Fish and Wildlife Service, Interior.

ACTION: Revised notice of intent.

SUMMARY: On December 18, 2000, the Fish and Wildlife Service (Service) issued a Notice of Intent (NOI) regarding an Environmental Impact Statement for a revised Natomas Basin Habitat Conservation Plan (Plan) and Incidental Take Permits (Permits) under section 10(a)(1)(B) of the Endangered Species Act. At that time, the Service was considering amending the Permit for the City of Sacramento and issuing a Permit to Sutter County. Reclamation District No. 1000 (RD 1000) and Natomas Central Mutual Water Company (Natomas Mutual) have now joined the City of Sacramento and Sutter County as applicants for Permits. RD 1000 plans to participate as a co-lead agency with the City of Sacramento and Sutter County. In addition, Sacramento County may also apply for a Permit.

The Permits would authorize incidental take of listed species and unlisted species that may be listed in the future. The original scope of the Environmental Impact Statement, as described in the December 18, 2000 NOI, was to consider incidental take occurring as a result of urban development within the City of Sacramento and Sutter County, certain farming activities, and management of habitat reserves. Take resulting from Sacramento County is anticipated to be similar in scope to the City of Sacramento and Sutter County. With the proposed addition of the RD 1000 and Natomas Mutual Permits, the Environmental Impact Statement will also consider incidental take associated with RD 1000's and Natomas Mutual's operation and maintenance of water delivery and drainage canals and ditches, as well as the previously identified urban development, farming activities, and management of habitat reserves.

Pursuant to the National Environmental Policy Act, the Service intends to prepare an Environmental Impact Statement addressing the proposed action of amending the Plan and issuing Permits. This Environmental Impact Statement will be prepared jointly with an Environmental Impact Report pursuant to the California Environmental Quality Act. Pursuant to the prior NOI, the Service conducted public scoping from December 18, 2000 to January 16, 2001, including three meetings in the project vicinity. This notice reopens the scoping process and solicits written comments because the project description has changed to include the participation of RD 1000 and Natomas Mutual. Comments previously submitted during the initial scoping period will be addressed in the Environmental Impact Report/ Environmental Impact Statement.

DATES: Written comments are encouraged and should be received on or before September 17, 2001.

ADDRESSES: Information, written comments, or questions related to the inclusion of RD 1000 and Natomas Mutual into the Plan and Environmental Impact Report/Environmental Impact Statement should be submitted to Vicki Campbell, Division Chief, Conservation Planning, U.S. Fish and Wildlife Service, Sacramento Fish and Wildlife Office, 2800 Cottage Way, W-2605, Sacramento, California 95825; FAX (916) 414-6713. All comments received, including names and addresses, will become part of the official administrative record and may be made available to the public.

FOR FURTHER INFORMATION CONTACT: Lori Rinek or Kelly Hornaday, Fish and Wildlife Biologists, Sacramento Fish and Wildlife Office at (916) 414-6600. Additional information can also be obtained from the City of Sacramento [Grace Hovey, (916) 264-7601], Sutter County [Jeff Pemstein, (916) 361-8384], RD 1000 [Jim Clifton, (916) 922-9173], and Natomas Mutual [Peter Hughes, (916) 419-5936].

Dated: August 10, 2001.
Daniel Walsworth,
Deputy Manager, California/Nevada Operations Office,Sacramento, California.

[FR Doc. 01-20696 Filed 8-16-01; 8:45 am]

BILLING CODE 4310-55-P